DEPARTMENT OF ENERGY

Steel Industry Research Challenge Number DE-PS07-02ID14279

AGENCY: Idaho Operations Office, Department of Energy.

ACTION: Notice of availability of solicitation.

SUMMARY: The U.S. Department of Energy (DOE), Idaho Operations Office (ID) is seeking applications for conceptual designs for steel making processes that will revolutionize the way steel is made in the 21st century. This is the next “stretch” step in advancing the future of the domestic steel industry and compliments the current program based on the Steel Technology Roadmap. Each award made in response to this solicitation will be for a maximum of two years. During this period, each awardee will develop a conceptual design with supporting technical, marketing, economic and policy data; describe opportunities and barriers; and develop energy, environmental and economic targets. Multi-partner collaborations between steel companies, equipment suppliers, engineering firms, and educational institutions are strongly encouraged; collaboration with educational institutions and their students is mandatory. At the end of the two year period, a panel of judges made up of steel industry executives will determine which designs will be selected for long term cost-shared research and development investment.

DATES: The deadline for receipt of applications is 3 p.m. MDT April 15, 2002. The issuance date of Solicitation No. DE-PS07-02ID14279 will be approximately February 5, 2002.

ADDRESSES: Applications should be submitted through DOE's Industry Interactive Procurement System (IIPS) at http://e-center.doe.gov

FOR FURTHER INFORMATION CONTACT: Marshall Garr, Contract Specialist, at garrmc@id.doe.gov or telephone (208) 526-1536.

SUPPLEMENTARY INFORMATION: Approximately $1,000,000 in federal funds are expected to be available to fund the first year of selected design concept efforts. It is anticipated that equivalent funds should be available for any follow-on contract year. DOE anticipates making 1 to 4 cooperative agreement awards each with a duration of two years or less. The cooperative agreements will be awarded in accordance with DOE Financial Assistance regulations, Title 10 of the Code of Federal Regulations, chapter II subchapter H, part 600 (10 CFR 600). Award of a cooperative agreement under this solicitation does not commit the Government to fund any follow-on research. Successful applicants will be required to submit reports to DOE as identified in the reporting requirements checklist. No fee or profit will be paid to cooperative agreement award recipients.

No cost share is required. However, cost sharing is encouraged by the participants. Cost share may be provided as cash or in-kind cost share. Cost share may not be other federal funding. For additional information reference 10 CFR 600.127.

For-profit, non-profit, state and local governments, Indian Tribes, and institutions of higher education may submit applications in response to this solicitation. National laboratories will not be eligible for an award under this solicitation. However, an application that includes performance of a portion of the work by a National Laboratory may be considered for award provided the applicant clearly identifies the unique capabilities, facilities and/or expertise the Laboratory offers the primary applicant. National Laboratories will receive their funding through their existing arrangements with the Government via Field Work Proposals (FWP). The solicitation will be available in full text via the Internet on DOE's Industry Interactive Procurement System (IIPS) at http://e-center.doe.gov. Technical and non-technical questions should be submitted in writing to Marshall Garr by e-mail garrmc@id.doe.gov, or facsimile at 208-526-5548 no later than March 12, 2002.

The statutory authority for this program is the Federal Non-Nuclear Energy Research and Development Act of 1974 (Public Law 93-577).

Issued in Idaho Falls on February 5, 2002.
R. Jeffrey Hoyles,
Director, Procurement Services Division.

[FR Doc. 02-3891 Filed 2-15-02; 8:45 am]

BILLING CODE 6450-01-P